DEPARTMENT OF AGRICULTURE

Forest Service

Medicine Bow-Routt National Forests and Thunder Basin National Grassland; Wyoming; Thunder Basin National Grassland Land and Resource Management Plan Amendment for Prairie Dog Management

AGENCY: Forest Service, USDA.

ACTION: Notice of intent to prepare an environmental impact statement, correction.

SUMMARY: The Forest Service proposes to: (1) Develop a project-level and site-specific implementation strategy to manage black-tailed prairie dogs (Cynomys ludovicianus) using the full suite of management tools to maintain viable populations to support blackfooted ferret reintroduction and populations of other associated species while reducing unwanted colonization of adjoining lands along national grassland boundaries and (2) to amend the Thunder Basin National Grassland Land and Resource Management Plan (LRMP) as needed to support the site-specific implementation plan and to modify the boundary of the black-footed ferret reintroduction area. The ferret area modification is proposed to provide a more logical boundary, based on topographical and biological barriers for prairie dog colonies, and to include lands recently acquired through land exchange.

A Notice of Intent (NOI) to prepare an environmental impact statement (EIS) for this project was published March 13, 2007 (72 FR 11323-11324). More than six months have elapsed since the projected FEIS date in the original NOI. This revised NOI is being issued to update the projected date of availability of the FEIS.

DATES: The Notice of Availability of the draft environmental impact statement was published in the Federal Register on February 8, 2008 (73 FR 7555-7556). The final environmental impact statement is expected in July, 2009. No further formal public comment opportunities will be offered on this project.

FOR FURTHER INFORMATION CONTACT: Cristi Painter, Wildlife Biologist or Misty Hays, Deputy District Ranger, Douglas Ranger District, 2250 East Richards St, Douglas, WY 82633 (307 358-4690.

Individuals who use telecommunication devices for the deaf (TDD) may call the Federal Information Relay Service (FIRS) at 1-800-877-8339 between 8 a.m. and 8 p.m., Eastern Standard Time, Monday through Friday.

SUPPLEMENTARY INFORMATION: Since the 1960s, the Forest Service has been challenged to balance our duty to conserve prairie dog habitat and manage the impacts from prairie dogs on public lands and neighboring private lands. Prairie dog management on the Thunder Basin National Grassland fluctuated throughout the 1960's, 1970's and 1980s from periods of active use of rodenticide, management to maintain prairie dog populations and no rodenticide use. However, with the petition for listing the prairie dog in 1998, rodenticide use was prohibited by Forest Service policy from 1999 until 2004 when the US Fish and Wildlife Service issued its decision to remove the prairie dog from its candidate list. In 2001 the LRMP was completed with the 2002 Record of Decision (ROD). The LRMP continued to limit use of prairie dog rodenticide to situations involving public health and safety risks and damage to facilities. In 2002, as the Thunder Basin National Grassland LRMP was being completed a plague epizootic impacted prairie dog colonies on the Thunder Basin National Grassland in April and May 2002 reducing populations from an estimated 21,000 acres of inventoried active colonies in 2001 to about 3,300 acres of inventoried active colonies in 2002. Since 2002, active colonies have been recovering from the plague event from 29-69% annually. In 2004, as part of the appeal decisions on the LRMP, USDA Deputy Under Secretary, David Tenny, issued instructions directing the Thunder Basin National Grassland to ensure that local land managers work together with State and county officials and local landowners to aggressively implement the spirit and intent of the good neighbor policy.

Purpose and Need for Action

To meet Grassland-wide Goals and Objectives (Goal 1.b, Objective 1), the desired conditions prescribed under the MA 3.63 direction, the National Black Footed Ferret Recovery Plan, and the LRMP appeal direction, the purpose of the proposed action is to establish the public support and maintain the biological environment needed to facilitate the reintroduction of black-footed ferrets on the Thunder Basin National Grassland (TBNG).

To achieve this purpose, the Forest Service has identified the need to:

• Proactively manage prairie dog populations on the TBNG in an environmentally, biologically, and socially acceptable manner that provides for the long-term conservation of black-tailed prairie dogs and other species associated with prairie dog colonies.

• Manage prairie dog populations, colonies and complexes on the TBNG in adequate acreages and distributions to provide habitat conditions that support future reintroductions of black-footed ferrets.

• Address the potential for prairie dog movement from the TBNG to adjoining private and State lands and local landowner concerns about possible losses of agricultural production, costs of controlling prairie dogs, effects on land values, and risks to human and animal health and safety that may occur if prairie dogs colonize adjacent non-federal lands as a result of this movement.

• Conserve prairie dogs on the TBNG for the wide variety of wildlife species that are dependent on the habitat provided by prairie dog colonies.

• Gain local landowner and State of Wyoming support for a prairie dog management on the TBNG that provides for the biological needs of the black-footed ferret and minimizes potential adverse impacts to adjacent non-federal landowners.

Proposed Action

The Forest Service proposes to develop a project-level and site-specific implementation strategy to manage prairie dogs using the full suite of management tools to maintain viable populations to support black-footed ferret reintroduction and populations of other associated species while reducing unwanted colonization of prairie dogs on adjoining lands along National Grassland boundaries. The Forest Service also proposes to amend the LRMP as needed to support the site-specific implementation plan and to modify the boundary of the black-footed ferret reintroduction area. The ferret reintroduction area modification is proposed in order to provide a more logical boundary based on topographical and biological barriers for prairie dog colonies and to include lands recently acquired through land exchange. All standards and guidelines as currently prescribed in the LRMP for Black Footed Ferret Reintroduction Habitat will apply to the modified area. Methods for implementing the proposed actions include a suite of non-lethal and lethal management tools such as: rodenticide, limited shooting, landownership adjustment, third-party solutions, financial incentives, conservation agreements, conservation easements, live-trapping, reduced livestock grazing to create visual barriers, and physical barriers.

Responsible Official

Mary H. Peterson, Forest Supervisor, Medicine Bow-Routt National Forests and Thunder Basin National Grassland, 2468 Jackson Street, Laramie, Wyoming 82070 is the official responsible for making the decision on this action. She will document her decision and rationale in a Record of Decision.

Nature of Decision To Be Made

The Responsible Official will consider the results of the analysis and its findings and then document the final decision in a Record of Decision (ROD). The decision will include a determination whether or not to amend the LRMP to support the prairie dog management strategy and adjust the boundaries of the Black Footed Ferret Reintroduction Management Area.

Scoping Process

Concurrent with this NCI, letters requesting comments will be sent to interested parties. Anyone who provides comments to the DEIS or expresses interest during the comment period will have eligibility.

Preliminary Issues

The Forest Service has identified the following preliminary issues: (1) Potential impacts to the Black-Footed Ferret, an Endangered species; (2) Potential impacts to the black-tailed prairie dog, a Forest Service Region 2 Sensitive Species and other associated sensitive species; (3) Potential impacts to adjacent private lands; (4) Potential impacts to livestock grazing permits on National Grassland.

Comment Requested

Comments and input regarding the proposal were requested from the public, other groups and agencies via direct mailing on May 9, 2007. The Draft EIS was issued for a 45-day public comment in December 19, 2007 and the comment period was extended for an additional 45 days from February 4, 2008 until March 24, 2008. No further formal public comment will be accepted on this project.

Dated: June 22, 2009.
Misty A. Hays,
Deputy District Ranger.

[FR Doc. E9-15842 Filed 7-6-09; 8:45 am]

BILLING CODE 3410-11-M